DEPARTMENT OF VETERANS AFFAIRS

Advisory Committee on Cemeteries and Memorials, Notice of Meeting

The Department of Veterans Affairs (VA) gives notice under the Federal Advisory Committee Act that a meeting of the Advisory Committee on Cemeteries and Memorials will be held on October 22-October 23, 2019. The meeting sessions will take place at the Phoenix Regional Benefits Office, 3333 North Central Avenue, Phoenix, Arizona 85012. The meeting sessions will begin as follows:

Date | Time
October 22, 2019 | 8:00 a.m. to 4:30 p.m. (Mountain Time—MT).
October 23, 2019 | 8:00 a.m. to 4:30 p.m. MT.

The meeting sessions are open to the public. If you're interested in attending the meeting virtually, the dial in number for both days is 1-800-767-1750, 02668#.

The purpose of the Committee is to advise the Secretary of Veterans Affairs on the administration of national cemeteries, soldiers' lots and plots, the selection of new national cemetery sites, the erection of appropriate memorials, and the adequacy of Federal burial benefits. The Committee will make recommendations to the Secretary regarding such activities.

On Tuesday, October 22, 2019, from 8:00 a.m.-9:30 a.m. MT, the agenda will include remarks by the VA Leadership, and National, State, and Tribal Cemetery Directors. Directly following the business portion of the meeting, the Committee, VA Staff, and Cemetery Directors will visit the National Memorial Cemetery at Arizona and the Arizona Veterans' Memorial Cemetery at Marana. The Committee will conduct tours of a national and state cemetery from 9:30 a.m.-4:30 p.m. MT. Transportation will not be provided for public guests.

On Wednesday, October 23, 2019, from 8:00 a.m.-10:00 a.m. MT, the agenda will include workgroup status updates from the Access, Outreach, and Choice Subcommittee. Directly following the business portion of the meeting, the Committee, VA Staff, and Cemetery Directors will visit the San Carlos Apache Tribal Veterans' Cemetery. The Committee will conduct a tour of a tribal cemetery from 10:00 a.m.-4:30 p.m. MT. Transportation will not be provided for public guests.

Any member of the public wishing to attend the meeting should contact Ms. Christine Hamilton, Designated Federal Officer, at (202) 461-5681. The Committee will also accept written comments. Comments may be transmitted electronically to the Committee at Christine.hamilton1@va.gov or mailed to the National Cemetery Administration (40A1), 810 Vermont Avenue NW, Room 400, Washington, DC 20420. In the public's communications with the Committee, the writers must identify themselves and state the organizations, associations, or persons they represent.

Dated: August 15, 2019.
Jelessa M. Burney,
Federal Advisory Committee Management Officer.

[FR Doc. 2019-17946 Filed 8-19-19; 8:45 am]

BILLING CODE P